DEPARTMENT OF AGRICULTURE

Forest Service

Forest Resource Coordinating Committee

AGENCY: Forest Service, USDA.

ACTION: Notice of intent to renew the charter for the Forest Resource Coordinating Committee and call for nominations.

SUMMARY: The Secretary of Agriculture (Secretary) intends to renew the charter for the Forest Resource Coordinating Committee (Committee) pursuant to section 8005 of the Food, Conservation, and Energy Act of 2008 (Act) (Pub. L. 110-246), and the Federal Advisory Committee Act (FACA), (5 U.S.C. App. 2). The Act passed into law as an amendment to the Cooperative Forestry Assistance Act of 1978 on June 18, 2008. The Committee is being renewed to continue coordinating non-industrial private forestry activities within the U.S. Department of Agriculture (USDA), State Agencies, and the private sector. The Secretary has determined that the work of the Committee is in the public interest and relevant to the duties of the USDA. Therefore, the Secretary is seeking nominations to fill vacancies on the Committee. Additional information concerning the Committee can be found on the Committee's Web site at: http://www.fs.fed.us/spf/coop/frcc/.

DATES: Written nominations must be received on or before August 14, 2015. Nominations must contain a completed application packet that includes the nominee's name, resume, and a completed Form AD-755 (Advisory Committee or Research and Promotion Background Information). The package must be sent to the address below.

ADDRESSES: Laurie Schoonhoven, USDA Forest Service, Cooperative Forestry Staff, 201 14th Street SW., Mail Stop 1123, Washington, DC 20024; by express mail or overnight courier service. Nominations sent via the U.S. Postal Service must be sent to the following address: USDA Forest Service; Cooperative Forestry Staff, State & Private Forestry; Mail Stop 1123; 1400 Independence Avenue SW., Washington, DC 20250-1123.

FOR FURTHER INFORMATION CONTACT: Laurie Schoonhoven, Committee Coordinator, by phone at 202-205-0929 or Andrea Bedell-Loucks, Designated Federal Officer (DFO), by phone at 202-205-1190. Individuals who use telecommunication devices for the deaf (TDD) may call the Federal Information Relay Service (FIRS) at 1-800-877-8339 between 8 a.m. and 5 p.m., Eastern Standard Time, Monday through Friday.

SUPPLEMENTARY INFORMATION:

Background

In accordance with the provisions of the FACA, the Secretary is renewing the Committee to continue providing direction and coordination of actions within the USDA, State Agencies, and the private sector; to effectively address the national priorities for private forest conservation, with specific focus on owners of non-industrial private forest land, as described in section 8005 of the Act. These priorities include:

1. Conserving and managing working forest landscapes for multiple values and use;

2. Protecting forests from threats, including catastrophic wildfires, hurricanes, tornadoes, windstorms, snow or ice storms, flooding, drought, invasive species, insect or disease outbreak, or development, and restoring appropriate forest types in response to such threats; and

3. Enhancing public benefits from private forests, including air and water quality, soil conservation, biological diversity, carbon storage, forest products, forestry-related jobs, production of renewable energy, wildlife, wildlife corridors and wildlife habitat, and recreation.

The Committee will continue meeting on an annual basis and its primary duties will include:

1. Providing direction and coordination of actions within the USDA, State Agencies, and the private sector; to effectively address the national priorities, with specific focus on non-industrial private forest land;

2. Clarifying individual agency responsibilities of each represented on the Committee concerning the national priorities with specific focus on non-industrial private forest land;

3. Providing advice on the allocation of funds, including the competitive funds set-aside for Competitive Allocation of Funds Innovation Projects (sections 8007 and 8008 of the Act); and

4. Assisting the Secretary in developing and reviewing the report to Congress required by section 8001(d) of the Act.

Advisory Committee Organization

The Committee is comprised of not more than 20 members. The members appointed to the Committee will be fairly balanced in terms of points of view represented, functions to be performed, and will represent a broad array of expertise and relevancy to a membership category. The Committee composition is as follows:

(a) Chief of the Forest Service;

(b) Chief of the Natural Resources Conservation Service;

(c) Director of the Farm Service Agency;

(d) Director of the National Institute of Food and Agriculture;

(e) Three State foresters or equivalent State officials from geographically diverse regions of the United States;

(f) A representative of a State Fish and Wildlife Agency;

(g) Three owners of non-industrial private forest land;

(h) A forest industry representative;

(i) Three representatives from conservation organizations;

(j) A land-grant university or college representative;

(k) A private forestry consultant;

(l) A representative from a State Technical Committee;

(m) A representative of an Indian Tribe; and

(n) A representative from a Conservation District.

The Committee members will serve staggered terms up to three years and will meet annually, or as often as necessary, at the times designated by the DFO. The appointment of members to the Committee will be made by the Secretary.

Vacancies

Representatives from the following categories will be appointed by the Secretary with staggered terms up to 3 years:

1. Conservation Organization;

2. State Fish and Wildlife agency;

3. Tribal; and

4. Non-industrial Private Forest Landowner.

The nominees must be associated with such an organization and be willing to represent that sector as it relates to non-industrial private forestry. Vacancies will be filled in the manner in which the original appointment was made.

Nomination and Application Instructions

The appointment of members to the Committee is made by the Secretary. Any individual or organization may nominate one or more qualified persons to represent the above vacancy on the Committee. To be considered for membership, nominees must submit:

1. Resume describing your qualifications to represent the vacancy;

2. Cover letter with a rationale for serving on the Committee and what you can contribute; and

3. A completed Form AD-755, Advisory Committee or Research and Promotion Background Information. The form AD-755 may be obtained from the Forest Service contacts or from the following Web site: http://www.usda.gov/documents/OCIO_AD_755_Master_2012.pdf.

4. Letters of recommendation are welcome.

All nominations will be vetted by the USDA. Individuals may also nominate themselves. A list of qualified applicants from which the Secretary shall appoint to the Committee will be prepared. Applicants are strongly encouraged to submit nominations via overnight mail or delivery to ensure timely receipt by the USDA.

Members of the Committee will serve without compensation, but may be reimbursed for travel expenses while performing duties on behalf of the Committee, subject to approval by the DFO.

Equal opportunity practices, in line with USDA policies, will be followed in all appointments to the Committee. To ensure that the recommendation of the Committee have taken into account the needs of the diverse groups served by the Department, membership includes to the extent practicable, individuals with demonstrated ability to represent the needs of all racial and ethnic groups, women and men, and persons with disabilities.

Dated: June 22, 2015.
Gregory L. Parham,
Assistant Secretary for Administration.

[FR Doc. 2015-15991 Filed 6-29-15; 8:45 am]

BILLING CODE 3411-15-P